DEPARTMENT OF LABOR

Employment and Training Administration

[TA-W-63,691]

Newpage Corporation, Niagara Mill, Including On-Site Leased Workers From PSI, Naico, Gunville Trucking, Advanced Service Providers and Scott Vancourt, Inc., Niagara, WI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on July 31, 2008, applicable to workers of NewPage Corporation, Niagara Mill, including on-site leased workers from PSI, Naico and Gunville Trucking, Niagara, Wisconsin. The notice was published in the Federal Register on August 12, 2008 (73 FR 46923). The certification was amended on August 20, 2008 to include on-site leased workers from Advanced Service Providers. The notice of published in the Federal Register on August 29, 2008 (73 FR 51001)

At the request of the State agency, the Department reviewed the certification for workers of the subject firm. The workers are engaged in the production of coated mechanical printing paper.

New information shows that workers leased from Scott VanCourt, Inc. were employed on-site at the Niagara, Wisconsin location of NewPage Corporation, Niagara Mill. The Department has determined that these workers were sufficiently under the control of NewPage Corporation, Niagara Mill.

Based on these findings, the Department is amending this certification to include workers leased from Scott VanCourt, Inc. working on-site at the Niagara, Wisconsin location of the subject firm.

The intent of the Department's certification is to include all workers employed at NewPage Corporation, Niagara Mill, Niagara, Wisconsin who were adversely affected by increased imports of coated mechanical printing paper.

The amended notice applicable to TA-W-63,691 is hereby issued as follows:

“All workers of NewPage Corporation, Niagara Mill, including on-site leased workers from PSI, Naico, Gunville Trucking, Advanced Service Providers, and Scott VanCourt, Inc., Niagara, Wisconsin, who became totally or partially separated from employment on or after July 11, 2007, through July 31, 2010, are eligible to apply for adjustment assistance under Section 223 of the Trade Act of 1974, and are also eligible to apply for alternative trade adjustment assistance under Section 246 of the Trade Act of 1974.”

Signed at Washington, DC, this 30th day of September 2008.
Linda G. Poole,
Certifying Officer, Division of Trade Adjustment Assistance.

[FR Doc. E8-23852 Filed 10-7-08; 8:45 am]

BILLING CODE 4510-FN-P